DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of April 4, 2011 through April 8, 2011.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
74,976 | Armstrong World Industries, Armstrong Building Products Division, Including An On-Site Contractor | Beaver Falls, PA | December 7, 2009.
75,081 | Crawford Furniture Manufacturing Corporation | Jamestown, NY | January 7, 2010.
75,092 | Jacobson Hat Company, Inc. | Scranton, PA | January 7, 2010.
75,093 | Yakama Forest Products, The Tribes of the Yakama Nation-Tribal Enterprise | White Swan, WA | January 12, 2010.
75,143 | Alliance Group Technologies Company Kokomo, Inc | Peru, IN | January 26, 2010.
75,194 | Weyerhaeuser NR Company, Ilevel Zwolle Veneer Division | Zwolle, LA | February 7, 2010.
75,195 | Ilevel By Weyerhaeuser, Human Resources Division | Albany, OR | February 7, 2010.
75,195A | Ilevel By Weyerhaeuser, Human Resources Division | Idabel, OK | February 7, 2010.
75,195B | Ilevel By Weyerhaeuser, Human Resources Division | Cosmopolis, WA | February 7, 2010.
75,195C | Ilevel By Weyerhaeuser, Human Resources Division | Federal Way, WA | February 7, 2010.
75,204 | ArcelorMittal Laplace, LLC, Leased Workers G&A Environmental Contractors, Inc. and Dynamic Security | Harriman, TN | February 9, 2010.
75,252 | The Goodyear Tire and Rubber Company, North American Tire | Union City, TN | February 10, 2010.
75,252A | Leased Workers from The Hamilton-Ryker Group, LLC; Securitas, etc., Working On-Site at the The Goodyear Tire and Rubber Company | Union City, TN | February 10, 2010.
75,254 | Cima Labs, Manufacturing Operations, Cephalon Inc., Leased Workers Aerotek Science, etc | Eden Prairie, MN | February 11, 2010.
75,267 | AK Steel Corporation, Ashland Works Coke Plant | Ashland, KY | February 11, 2011.
75,307 | BSH Home Appliances Corporation, Laundry Factory, Tesi Staffing and Employee Screening Services | New Bern, NC | February 14, 2010.

The following certifications have been issued. The requirements of Section 222(a)(2)(B) (shift in production or services) of the Trade Act have been met.

TA-W No. | Subject firm | Location | Impact date
74,723 | Oracle America, Inc., Oracle Corporation, Order-to-Cash Strategy and Operations Division | Broomfield, CO | October 8, 2009.
74,954 | VCustomer Corporation, Including Tele-Workers Reporting to Kirkland, Washington | Kirkland, WA | November 30, 2009.
75,023 | Chrysler Group, LLC, Power Train Div., Mack Avenue Engine Plant #1, Caravan Knight | Detroit, MI | December 5, 2010.
75,036 | Panasonic Corporation of North America, Business Operations Group | Rolling Meadows, IL | November 22, 2009.
75,096 | Hilton Worldwide, Memphis Operations, Brands & Commercial Services Divisions, etc | Memphis, TN | January 12, 2010.
75,096A | Hilton Worldwide, Brands & Commercial Services Divisions, etc | Mclean, VA | January 12, 2010.
75,096B | Hilton Worldwide, Brands & Commercial Services Divisions, etc | Addison, TX | January 12, 2010.
75,169 | Elkay Manufacturing | Ogden, UT | February 1, 2010.
75,224 | Tetra Pak Gable Top Systems, Inc., A Subsidiary of Tetra Pak, Inc | Minneapolis, MN | December 11, 2010.
75,253 | Hewlett Packard Company, CASS Volume Operations Division | Omaha, NE | February 11, 2010.
75,256 | Cooper Standard Automotive, Inc | New Lexington, OH | February 2, 2010.
75,276 | Associated Tube USA, Leased Workers from Manpower and Advance Staffing | Elizabethtown, KY | February 14, 2010.
75,286 | Moulton Logistics Management, Call Center Services, Select Staffing, Accountabilities & Barrington | Van Nuys, CA | February 11, 2010.
75,303 | Gildan USA, Inc., Retail Sales Div., Off-Site Workers Reporting to Charleston, SC from KY | Charleston, SC | February 14, 2010.

The following certifications have been issued. The requirements of Section 222(c) (supplier to a firm whose workers are certified eligible to apply for TAA) of the Trade Act have been met.

TA-W No. | Subject firm | Location | Impact date
75,218 | International Automotive Components, North America, Personnel and CJR Solutions D/B/A Harvard Resources Solutions | Lebanon, PA | February 9, 2010.
75,243 | Ansley, Inc., Including Off-Site Workers in Idaho and Washington | Bonners Ferry, ID | February 10, 2010.
75,263 | Macsteel Service Centers USA, Inc., Eastern Division | Liverpool, NY | February 11, 2010.

The following certifications have been issued. The requirements of Section 222(c) (downstream producer for a firm whose workers are certified eligible to apply for TAA) of the Trade Act have been met.

TA-W No. | Subject firm | Location | Impact date
75,042 | Allied Systems, Ltd, AKA Allied Automotive Group, Allied Systems Holding | Janesville, WI | December 15, 2009.

Negative Determinations for Worker Adjustment Assistance

In the following cases, the investigation revealed that the eligibility criteria for worker adjustment assistance have not been met for the reasons specified.

The investigation revealed that the criteria under paragraphs(a)(2)(A) (increased imports) and (a)(2)(B) (shift in production or services to a foreign country) of section 222 have not been met.

TA-W No. | Subject firm | Location | Impact date
74,898 | Fry Communications, Inc., Heat Set Press Department | Mechanicsburg, PA
74,905 | International Union UAW Local 735, Working on Site at General Motors Willow Run Powertrain, etc | Ypsilanti, MI
75,020 | John Hancock Life Insurance Company (USA), Long Term Care Division | Milwaukee, WI
75,041 | Lockheed Martin, Mission Systems & Sensors, Leased Workers DCR and Caribou Thunder | Eagan, MN
75,214 | Foodswing, Inc. | Cambridge, MD
75,221 | World Color (USA), LLC, World Color (USA) Corp., Quad Graphics, Inc., Leased Premium Personnel, etc | Lebanon, OH

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
74,982 | vCustomer Corporation | Kirkland, WA

The following determinations terminating investigations were issued because the petitioning groups of workers are covered by active certifications. Consequently, further investigation in these cases would serve no purpose since the petitioning group of workers cannot be covered by more than one certification at a time.

TA-W No. | Subject firm | Location | Impact date
75,279 | Hewlett Packard Company, Enterprise Storage and Networks, Supply Chain Division | Roseville, CA
75,289 | American Food and Vending, Working On-Site at Goodyear Tire | Union City, TN

I hereby certify that the aforementioned determinations were issued during the period of April 4, 2011 through April 8, 2011. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Dated: April 13, 2011.
Michael W. Jaffe,
Certifying Officer, Office of Trade Adjustment Assistance.

[FR Doc. 2011-9842 Filed 4-21-11; 8:45 am]

BILLING CODE 4510-FN-P